ENVIRONMENTAL PROTECTION AGENCY

[ER-FRL-8990-7]

Environmental Impacts Statements; Notice of Availability

Responsible Agency: Office of Federal Activities, General Information (202) 564-1399 or http://www.epa.gov/compliance/nepa/.

Weekly receipt of Environmental Impact Statements.

Filed 05/24/2010 through 05/28/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100201, Draft EIS, FHWA, 00, Southeast High Speed Rail Richmond-Raleigh Project, Addresses the 162 mile Segment between Richmond, VA to Raleigh, NC, Comment Period Ends: 08/30/2010, Contact: John Winkle 202-493-60607.

EIS No. 20100202, Draft EIS, USFS, TX, Comal County Regional Habitat Conservation Plan, Application for Incidental Take Permit, Comal County, TX, Comment Period Ends: 07/28/2010, Contact: Bill Seawell 512-490-0057.

EIS No. 20100203, Draft Supplement, USFS, AK, Programmatic EIS—Exxon Valdez Oil Spill Restoration Plan DOI/DOC, New Circumstances Bearing on the Council's Restoration Effort, Implementation, Prince William Sound, Gulf of Alaska, AK, Comment Period Ends: 07/19/2010, Contact: Laurel Jennings 206-526-4525.

EIS No. 20100204, Final EIS, USN, GU, Mariana Islands Range Complex (MIRC), To Address Ongoing and Proposed Military Training Activities, Mariana Islands, GU, Wait Period Ends: 07/06/2010, Contact: Nora Macariola-See 808-472-1402.

EIS No. 20100205, Draft Supplement, USFS, CA, Beaverslide Timber Sale and Fuel Treatment Project, Additional Analysis and New Information, Six Rivers National Forest, Mad River Range District, Trinity County, CA, Comment Period Ends: 07/19/2010, Contact: Thomas Hudson 707-574-6233.

EIS No. 20100206, Draft EIS, FHWA, OR, Newberg Dundee Bypass Project, Proposal to Build a Four Lane Expressway and Reduce Congestion on OR 99W, from OR 99W/OR 8 to the top of Rex Hill, USACE 404/Removal Fill Permits, Funding, Yamhill and Washington Counties, OR, Comment Period Ends: 07/19/2010, Contact: Michelle Eraut 503-587-4716.

EIS No. 20100207, Draft EIS, USFS, SD, Nautilus Project Area, Multiple Resource Management Actions, Implementation, Black Hills National Forest, Northern Hills Ranger District, Lawrence, Meade and Pennington, SD, Comment Period Ends: 07/19/2010, Contact: Chris Stores 605-642-4622.

Amended Notices

EIS No. 20100189, Final EIS, NPS, AK, Legislative—Glacier Bay National Park Project, Authorize Harvest of Glaucous-Winged Gull Eggs by the Huna Tlingit, Implementation, AK, Wait Period Ends: 06/28/2010, Contact: Cherry Payne 907-697-2230.

Revision to FR Notice Published 5/28/2010: Correction to Lead Agency from BLM to NPS.

EIS No. 20100193, Final EIS, FRA, CA, Adoption—March 2004 Transbay Terminal/Caltrain Downtown Extension/Redevelopment Program (Transbay Program) Phase 1, San Francisco, San Mateo and Santa Clara, CA, Wait Period Ends: 06/28/2010, Contact: David Valenstein 202-493-6368.

Revision to FR Notice Published 05/28/2010: Correction to Contact Person Name and Telephone.

Dated: June 1, 2010.
Robert W. Hargrove,
Director, NEPA Compliance Division, Office of Federal Activities.

[FR Doc. 2010-13458 Filed 6-3-10; 8:45 am]

BILLING CODE 6560-50-P